FEDERAL EMERGENCY MANAGEMENT AGENCY

[FEMA-1354-DR]

Arkansas; Amendment No. 10 to Notice of a Major Disaster Declaration

AGENCY: Federal Emergency Management Agency (FEMA).

ACTION: Notice.

SUMMARY: This notice amends the notice of a major disaster for the State of Arkansas, (FEMA-1354-DR), dated December 29, 2000, and related determinations.

EFFECTIVE DATE: April 24, 2001.

FOR FURTHER INFORMATION CONTACT: Madge Dale, Response and Recovery Directorate, Federal Emergency Management Agency, Washington, DC 20472, (202) 646-3772.

SUPPLEMENTARY INFORMATION: The notice is hereby given that as authorized by the President in a letter dated March 1, 2001, FEMA is extending the time period for Federal funding for debris removal at 100 percent of total eligible costs through June 28, 2001.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program)

Lacy E. Suiter,
Executive Associate Director.

[FR Doc. 01-12031 Filed 5-11-01; 8:45 am]

BILLING CODE 6718-02-P